DEPARTMENT OF COMMERCE

National Oceanic and Atmospheric Administration

[RTID 0648-XB737]

Magnuson-Stevens Act Provisions; Fisheries of the Northeastern United States; Atlantic Herring Fishery; Approved Industry-Funded Monitoring Service Providers

AGENCY: National Marine Fisheries Service (NMFS), National Oceanic and Atmospheric Administration (NOAA), Commerce.

ACTION: Notice of approved industry-funded monitoring service providers.

SUMMARY: NMFS has approved four companies to provide industry-funded monitoring services (observing, at-sea monitoring, and/or portside sampling) to Atlantic herring vessels during industry-funded monitoring years 2022-2023 (April 1, 2022, through March 31, 2024). Monitoring coverage regulations require that any entities seeking to provide monitoring services, including services for industry-funded monitoring programs, must apply for and obtain approval from NMFS. This action will allow Atlantic herring vessels to secure industry-funded monitoring services from any of the approved providers during 2022-2023.

ADDRESSES: The list of NMFS-approved industry-funded monitoring service providers is available at: https://www.fisheries.noaa.gov/resource/data/observer-providers-northeast-and-mid-atlantic-programs.

FOR FURTHER INFORMATION CONTACT: Maria Fenton, Fishery Management Specialist, (978) 281-9196.

SUPPLEMENTARY INFORMATION:

Background

The New England Industry-Funded Monitoring (IFM) Omnibus Amendment created an IFM program in the Atlantic herring fishery and set a 50-percent monitoring coverage target on vessels issued an All Areas (Category A) or Areas 2/3 (Category B) limited access Atlantic herring permit. This 50-percent coverage target consists of the combination of Standardized Bycatch Reporting Methodology (SBRM) coverage and IFM coverage provided to a vessel during the IFM year. Prior to any trip declared into the herring fishery, representatives for vessels issued Category A or B permits are required to notify NMFS for monitoring coverage. If NMFS informs a vessel that a trip is selected for IFM coverage, the vessel is required to obtain at-sea monitoring coverage from a NMFS-approved service provider for that trip. Midwater trawl vessels may also obtain IFM observer coverage in order to fish in a Groundfish Closed Area on a trip that was not selected for SBRM or IFM coverage. Vessels selected for SBRM coverage will continue to follow SBRM procedures, and that coverage will count toward achieving the 50-percent coverage target.

Some Category A or B herring vessels may participate in an Exempted Fishing Permit (EFP) to use an electronic monitoring and portside sampling program in lieu of carrying a human at-sea monitor to fulfill the requirements of the IFM Amendment. If NMFS informs a vessel participating in the EFP that a trip has been selected for IFM coverage, that vessel is required to obtain portside sampling services for that trip. Vessels participating in the EFP may also obtain portside sampling coverage in lieu of carrying an observer in order to fish in a Groundfish Closed Area on a trip that was not selected for SBRM or IFM coverage.

Monitoring Service Provider Approval Process

Monitoring coverage regulations at § 648.11(h)(1) require that any entities seeking to provide monitoring services, including services for IFM programs, must apply for and obtain approval from NMFS. The regulations at § 648.11(h)(4) describe the criteria for evaluating and approving a monitoring services provider application. NMFS approves service providers based on: (1) Completeness of the applications; and (2) determination of the applicant's ability to perform the duties and responsibilities of a monitoring service provider, as demonstrated in the application. Once approved, service providers must meet the requirements, conditions, and responsibilities specified at § 648.11(h)(5) and (6) in order to maintain eligibility. NMFS must notify service providers, in writing, if approval is withdrawn for any reason.

Approved Industry-Funded Monitoring Service Providers

NMFS received complete applications from four companies to provide IFM services to Atlantic herring vessels during IFM years 2022-2023: Saltwater Inc.; East West Technical Services LLC; A.I.S., Inc.; and Fathom Resources, LLC. We approved all four companies to provide IFM services to Atlantic herring vessels during IFM years 2022-2023 because they met the application requirements and demonstrated their ability to perform the duties and responsibilities of a monitoring service provider. All four companies are currently approved to provide IFM services for the Atlantic herring fishery in 2020-2021. NMFS will closely monitor the performance of approved providers and will be prepared to withdraw approval during the current approval term, or disapprove a future application to provide monitoring services, if it is determined that monitoring provider requirements, conditions, and responsibilities are not being met.

Table 1—Companies Approved To Provide IFM Services to Atlantic Herring Vessels During IFM Years 2022-2023
Provider | Approved IFM service(s) | Contact information | Website
Saltwater Inc | Portside sampling | 733 N St., Anchorage, AK 99501, Phone: 907-276-3241, Fax: 907-258-5999 | www.saltwaterinc.com.
East West Technical Services LLC | Industry-funded observer, ASM, portside sampling | 91 Point Judith Rd., Suite 26, Unit 347, Narragansett, RI 02882, Phone: 860-910-4957, Fax: 860-223-6005 | www.ewts.com.
A.I.S., Inc | Industry-funded observer, ASM, portside sampling | 540 Hawthorn St., North Dartmouth, MA 02747, Phone: 508-990-9054, Fax: 508-990-9055 | www.aisobservers.com.
Fathom Resources, LLC | Industry-funded observer, ASM, portside sampling | 855 Aquidneck Ave., Unit 9, Middletown, RI 02842, Phone: 508-990-0997, Fax: 508-991-7372 | www.fathomresources.com.

Authority: 16 U.S.C. 1801 et seq.

Dated: February 10, 2022.
Ngagne Jafnar Gueye,
Acting Director, Office of Sustainable Fisheries, National Marine Fisheries Service.

[FR Doc. 2022-03435 Filed 2-16-22; 8:45 am]

BILLING CODE 3510-22-P